FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011290-031.

Title: International Vessel Operators Hazardous Material Association Agreement.

Parties: Alianca Navegacao e Logistica Ltda.; APL Co. PTE Ltd.; Atlantic Container Line AB; Australia-New Zealand Direct Line; Bermuda Container Line; Canada Maritime Agencies Ltd.; China Shipping Container Lines Co., Ltd.; CMA CGM, S.A.; Compania Latino Americana de Navegacion SA; Contship Containerlines; Crowley Maritime Corporation; CSX Lines, LLC; Evergreen Marine Corp. (Taiwan) Ltd.; Hamburg-Südamerikanische Dampfschifffahrtsgesellschaft KG; Hanjin Shipping Co., Ltd.; Hapag-Lloyd Container Linie GmbH; Hyundai Merchant Marine Co., Ltd.; Independent Container Line Ltd.; Italia di Navigazione, S.p.A.; Kawasaki Kisen Kaisha Ltd.; Lykes Lines Limited, LLC; Marine Transport Lines, Inc.; Maruba SCA; Mediterranean Shipping Co. S.A.; Mitsui O.S.K. Lines, Ltd.; A.P. Moller-Maersk A/S; National Shipping Co. of Saudi Arabia; Nippon Yusen Kaisha Line; Orient Overseas Container Line Limited; P&O Nedlloyd B.V.; P&O Nedlloyd Limited; Safmarine Container Lines; Seaboard Marine Ltd.; Senator Lines GmbH; TMM Lines Limited; Tropical Shipping & Construction Co., Ltd.; Yang Ming Marine Transport Corp.; and Zim Israel Navigation Company, Ltd.

Synopsis: The amendment adds Senator Lines as a party to the agreement and deletes Wallenius-Wilhelmsen A/S as a party, removes reference to Hamburg-Süd's former trade name, and updates Maersk's corporate name.

Agreement No.: 011305-012.

Title: United Alliance Agreement.

Parties: Hanjin Shipping Co., Ltd.; Senator Lines GmbH; and United Arab Shipping Company, S.A.G.

Synopsis: The amendment would drop Senator Lines as a party to the agreement and recast the agreement as a vessel sharing arrangement under the name Hanjin/United Arab Vessel Sharing and Slot Allocation Agreement.

Agreement No.: 011626-009.

Title: Aliança/HSDG/P&O Nedlloyd Agreement.

Parties: Aliança Navegacao e Logistica Ltda., Hamburg Südamerikanische Dampfschifffahrts-Gesellschaft KG,; Mercosul Line Navegaçao e Logistica Ltda., P&O Nedlloyd Limited, and P&O Nedlloyd B.V. Inc.

Synopsis: The amendment revises the vessel contributions and space allocations under the agreement, deletes references to Hamburg Süd's trade names and updates its address, updates Mercosul Line's corporate name and address, and renames and restates the agreement. The parties request expedited review.

Agreement No.: 011741-005.

Title: U.S. Pacific Coast-Oceania Agreement.

Parties: Australia-New Zealand Direct Line, FESCO Ocean Management Limited, Hamburg-Süd, Lykes Lines Limited LLC, A.P. Moller-Maersk A/S P&O Nedlloyd B.V., and P&O Nedlloyd Limited.

Synopsis: The amendment adds Lykes as a party to the agreement, removes reference to Hamburg-Süd's former trade name, and updates Maersk's corporate name.

Agreement No.: 011792-001.

Title: NYK/WWL/CSAV South America Space Charter Agreement.

Parties: Compania Sud Americana de Vapores S.A., Nippon Yusen Kaisha, and Wallenius-Wilhelmsen AS.

Synopsis: The amendment removes Wallenius as a party to the agreement; makes conforming changes related to Wallenius' removal; deletes Venezuela from the geographic scope of the agreement; adds service to Baltimore, MD; deletes obsolete language; and restates the agreement.

Agreement No.: 011867.

Title: Norasia/GSL Round the World Service Agreement.

Parties: Norasia Container Lines Limited and Gold Star Line Ltd.

Synopsis: The agreement would authorize the carriers to share vessel space in an around the world service between the United States, on the one hand, and Europe, Asia, Indian Sub-continent, the Middle East, and the Caribbean, on the other hand.

Agreement No.: 201140-001.

Title: NYSA-ILA Assessment Agreement.

Parties: New York Shipping Association, Inc. and the International Longshoremen's Association, AFL-CIO.

Synopsis: The amendment clarifies certain definitions and revises assessments on Bermuda and Puerto Rican trade cargo.

By Order of the Federal Maritime Commission.
Dated: December 19, 2003.
Bryant L. VanBrakle,
Secretary.

[FR Doc. 03-31763 Filed 12-23-03; 8:45 am]

BILLING CODE 6730-01-P